FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011602-007.

Title: Grand Alliance Agreement II.

Parties: Hapag-Lloyd Container Linie GmbH/CP Ships (UK) Limited/CP Ships USA LLC; Nippon Yusen Kaisha; and Orient Overseas Container Line, Inc./Orient Overseas Container Line Limited/Orient Overseas Container Line (Europe) Limited.

Filing Party: Wayne R. Rohde, Esq.; Sher & Blackwell; 1850 M Street, NW., Suite 900; Washington, DC 20036.

Synopsis: The amendment removes P&O Nedlloyd Limited and P&O Nedlloyd, B.V. as parties to the agreement.

Agreement No.: 011665-008.

Title: Specialized Reefer Shipping Association Agreement.

Parties: NYKLauritzenCool AB and Seatrade Group N.V.

Filing Party: Wayne R. Rohde, Esq.; Sher & Blackwell LLP; 1850 M Street, NW., Suite 900; Washington, DC 20036.

Synopsis: The amendment adds authority for the parties to develop and manage quality assurance and other operational and/or marketing programs, to enter into arrangements with other agreements to manage the foregoing programs that may be implemented by those other agreements, to exchange certain commercial information, and to meet with shippers to discuss matters of mutual interest. The amendment also adds a yearly membership fee and restates the agreement.

Agreement No.: 011701-009.

Title: Pacific East Coast Express Agreement.

Parties: A.P. Moller-Maersk A/S; China Shipping Container Lines Co., Ltd./China Shipping Container Lines (Hong Kong) Co., Ltd.; and CMA CGM, S.A.

Filing Party: Neal M. Mayer, Esq.; Hoppel, Mayer & Coleman; 1050 Connecticut Avenue, NW; Washington, DC 20036.

Synopsis: The amendment substitutes A.P. Moller Maersk A/S for P&O Nedlloyd Limited and P&O Nedlloyd B.V.

Agreement No.: 011847-003.

Title: Pacific Gulf Express Agreement.

Parties: A.P. Moller Maersk A/S and CMA CGM, S.A.

Filing Party: Neal M. Mayer, Esq.; Hoppel, Mayer & Coleman; 1050 Connecticut Avenue, NW; Washington, DC 20036.

Synopsis: The amendment substitutes A.P. Moller Maersk A/S for P&O Nedlloyd Limited and P&O Nedlloyd B.V.

Agreement No.: 011852-022.

Title: Maritime Security Discussion Agreement.

Parties: China Shipping Container Lines, Co., Ltd.; Hyundai Merchant Marine Co., Ltd.; Kawasaki Kisen Kaisha, Ltd.; Nippon Yusen Kaisha; Yang Ming Marine Transport Corp.; Zim Integrated Shipping Services, Ltd.; Alabama State Port Authority; Ceres Terminals, Inc.; Cooper/T. Smith Stevedoring Co., Inc.; Husky Terminal & Stevedoring, Inc.; International Shipping Agency; International Transportation Service, Inc.; Lambert's Point Docks Inc.; Maher Terminals, Inc.; Marine Terminals Corp.; Massachusetts Port Authority; P&O Ports North America, Inc.; Trans Bay Container Terminal, Inc.; TraPac Terminals; Virginia International Terminals; and Yusen Terminals, Inc.

Filing Parties: Carol N. Lambos; The Lambos Firm; 29 Broadway; 9th Floor; New York, NY 10006, and Charles T. Carroll, Jr.; Carroll & Froelich, PLLC; 2011 Pennsylvania Avenue, NW.; Suite 301; Washington, DC 20006.

Synopsis: The amendment deletes South Carolina Ports Authority, the Port of Tacoma, and Stevedoring Services of America, Inc. as parties to the agreement. It also reflects Yang Ming's agent as Yang Ming (America) Corp.

By Order of the Federal Maritime Commission.
Bryant L. Vanbrakle,
Secretary.

[FR Doc. E6-6282 Filed 4-25-06; 8:45 am]

BILLING CODE 6730-01-P